FEDERAL MARITIME COMMISSION

Ocean Transportation Intermediary License

Applicant

Notice is hereby given that the following applicant has filed with the Federal Maritime Commission an application for license as a Non-Vessel Operating Common Carrier—Ocean Transportation Intermediary pursuant to section 19 of the Shipping Act of 1984 as amended (46 U.S.C. app. 1718 and 46 CFR part 515).

Persons knowing of any reason why the following applicant should not receive a license are requested to contact the Office of Transportation Intermediaries, Federal Maritime Commission, Washington, DC 20573.

Non-Vessel-Operating Common Carrier Ocean Transportation Intermediary Applicant

Global Total Logistics, LLC, 3885 Meadow Park Lane, Torrance, CA 90505, Officers: David Chiang, Manager (Qualifying Individual), Sumadi Kusuma, Manager.

Dated: March 17, 2000.
Bryant L. VanBrakle,
Secretary.

[FR Doc. 00-7096 Filed 3-21-00; 8:45 am]

BILLING CODE 6730-01-P